DEPARTMENT OF THE TREASURY

Submission for OMB Review; Comment Request

March 2, 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before April 7, 2006 to be assured of consideration.

Internal Revenue Service (IRS)

OMB Number: 1545-0387.

Type of Review: Extension.

Title: Application for Filling Information Returns Magnetically/Electronically.

Form: IRS Form 4419.

Description: Under section 6011(e)(2) (a) of the Internal Revenue Code, any person, including corporations, partnerships, individuals, estates and trusts, who is required to file 250 or more information returns must file such returns magnetically/electronically. Payers required to file on magnetic media or electronically must complete Form 4419 to receive authorization to file.

Respondents: Business or other for-profit; Not-for-profit institutions; Federal Government; State, local or tribal government.

Estimated Total Burden Hours: 6,500 hours.

OMB Number: 1545-0973.

Type of Review: Extension.

Title: Geographic Availability Statement.

Form: IRS Form 8569.

Description: The data collected from this form is used by the executive panels responsible for screening internal and external applicants for the SES Candidate Development Program, and other executive positions.

Respondents: Individuals or households; Federal Government.

Estimated Total Burden Hours: 84 hours.

OMB Number: 1545-1049.

Type of Review: Extension.

Title: IA-7-88 (Final) Excise Tax Relating to Gain or Other Income Realized by Any Person on Receipt of Greenmail.

Description: The final regulations provide rules relating to the manner and method of reporting and paying the nondeductible 50 percent excise tax imposed by section 5881 of the Internal Revenue Code with respect to the receipt of greenmail.

Respondents: Individuals or households; Business or other for-profit.

Estimated Total Burden Hours: 2 hours.

OMB Number: 1545-1557.

Type of Review: Extension.

Title: Revenue Procedure 99-39, Form 941 e-file Program.

Description: Revenue Procedure 99-39 provides guidance and the requirements for participating in the Form 941 e-file Program.

Respondents: Business or other for-profit; Not-for-profit institutions; Federal Government; State, local or tribal government.

Estimated Total Burden Hours: 238,863 hours.

OMB Number: 1545-1671.

Type of Review: Extension.

Title: REG-209709-94 (Final) Amortization of Intangible Property.

Description: The information is required by the IRS to aid it in administering the law and to implement the election provided by section 197(f)(9)(B) of the Internal Revenue Code. The information will be used to verify that a taxpayer is properly reporting its amortization and income taxes.

Respondents: Business or other for-profit.

Estimated Total Burden Hours: 1,500 hours.

OMB Number: 1545-1804.

Type of Review: Extension.

Title: New Markets Credit.

Form: IRS Form 8874.

Description: Investors use Form 8874 to request a credit for equity investments in Community Development entities.

Respondents: Individuals or households; Business or other for-profit.

Estimated Total Burden Hours: 87,600 hours.

OMB Number: 1545-1528.

Type of Review: Extension.

Title: Revenue Procedure 97-15, Section 103—Remedial Payment Closing Agreement Program.

Description: This information is required by the Internal Revenue Service to verify compliance with sections 57, 103, 141, 142, 144, 145 and 147 of the Internal Revenue Code of 1986, as applicable (including any corresponding provision, if any of the Internal Revenue Code of 1954). This information will be used by the Service to enter into a closing agreement with the issuer of certain state or local bonds and to establish the closing agreement amount.

Respondents: Not-for-profit institutions and State, local or tribal government.

Estimated Total Burden Hours: 75 hours.

Clearance Officer: Glenn P. Kirkland, Internal Revenue Service, Room 6516, 1111 Constitution Avenue, NW., Washington, DC 20224, (202) 622-3428.

OMB Reviewer: Alexander T. Hunt, Office of Management and Budget, Room 10235, New Executive Office Building, Washington, DC 20503, (202) 395-7316.

Michael A. Robinson,
Treasury PRA Clearance Officer.

[FR Doc. E6-3271 Filed 3-7-06; 8:45 am]

BILLING CODE 4830-01-P